FEDERAL ACCOUNTING STANDARDS ADVISORY BOARD

Notice of Exposure Draft

AGENCY: Federal Accounting Standards Advisory Board.

ACTION: Notice of exposure draft, Reporting Comprehensive Long-Term Fiscal Projections for the U.S. Government.

Board Action: Pursuant to the Federal Advisory Committee Act (Pub. L. No. 92-463), as amended, and the FASAB Rules of Procedure, as amended in October, 1999, notice is hereby given that the Federal Accounting Standards Advisory Board (FASAB) has issued an exposure draft, Reporting Comprehensive Long-Term Fiscal Projections for the U.S. Government. The proposed standard would establish reporting requirements for the consolidated financial report of the United States Government (CFR) to address the question of whether the government's future budgetary resources are likely to be sufficient to sustain public services and meet obligations as they come due. The exposure draft is available on the FASAB home page http://www.fasab.gov/exposure.html. Copies can be obtained by contacting FASAB at (202) 512-7350. Respondents are encouraged to comment on any part of the proposal.

Written comments are requested by January 5, 2009, and should be sent to: Wendy M. Payne, Executive Director, Federal Accounting Standards Advisory Board, 441 G Street, NW., Suite 6814, Mail Stop 6K17V, Washington, DC 20548.

FOR FURTHER INFORMATION CONTACT: Wendy Payne, Executive Director, FASAB, 441 G Street, NW., Washington, DC 20548, or call (202) 512-7350.

Authority: Federal Advisory Committee Act, Pub. L. No. 92463.

Dated: September 2, 2008.
Charles Jackson,
Federal Register Liaison.

[FR Doc. E8-20666 Filed 9-8-08; 8:45 am]

BILLING CODE 1610-01-M